DEPARTMENT OF TRANSPORTATION

Federal Aviation Administration

RTCA, Inc.; Government/Industry Certification Steering Committee

Pursuant to section 10(a)(2) of the Federal Advisory Committee Act (Pub. L. 92-463, 5 U.S.C., Appendix 2), notice is hereby given for RTCA Government/Industry Certification Steering Committee meeting to be held March 23, 2000, from 10:00 a.m. to 2:00 p.m. The meeting will be held at Federal Aviation Administration (FAA), 800 Independence Avenue, SW., Washington, DC 20591, in the Bessie Coleman Conference Center, Room 2AB.

The agenda will include: (1) Welcome and Introductory Remarks; (2) Review Previous Meeting Minutes; (3) Review Meeting Agenda; (4) Certification Select Committee Progress Report; (5) Working Group Report on Implementation of Task Force 4 Recommendations; (6) Update and Demonstration of FAA Web Site Redesign; (7) Other Business; (8) Date and Location of Next Meeting; (9) Closing.

Attendance is open to the interested public but limited to space availability. With the approval of the co-chairmen, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on February 23, 2001.
Janice L. Peters,
Designated Official.

[FR Doc. 01-5138 Filed 3-1-01; 8:45 am]

BILLING CODE 4910-13-M